DEPARTMENT OF DEFENSE

GENERAL SERVICES ADMINISTRATION

NATIONAL AERONAUTICS AND SPACE ADMINISTRATION

48 CFR Parts 31, 32, and 52

[FAC 2005-19; Item XIII; Docket FAR-2007-0003; Sequence 2]

Federal Acquisition Regulation; Technical Amendments

AGENCIES: Department of Defense (DoD), General Services Administration (GSA), and National Aeronautics and Space Administration (NASA).

ACTION: Final rule.

SUMMARY: This document makes amendments to the Federal Acquisition Regulation (FAR) in order to make editorial changes.

DATES: Effective Date: August 17, 2007.

FOR FURTHER INFORMATION CONTACT The FAR Secretariat, Room 4035, GS Building, Washington, DC, 20405, (202) 501-4755, for information pertaining to status or publication schedules. Please cite FAC 2005-19, Technical Amendments.

List of Subjects in 48 CFR Parts 31, 32, and 52

Government procurement.

Dated: July 30, 2007.
Al Matera,
Acting Director, Contract Policy Division.

Therefore, DoD, GSA, and NASA amend 48 CFR parts 31, 32, and 52 as set forth below:

1. The authority citation for 48 CFR parts 31, 32, and 52 continues to read as follows:

Authority: 40 U.S.C. 121(c); 10 U.S.C. chapter 137; and 42 U.S.C. 2473(c).

PART 31—CONTRACT COST PRINCIPLES AND PROCEDURES

31.201-5 [Amended]

2. Amend section 31.201-5 by removing “31.205-6(j)(4)” and adding “31.205-6(j)(3)” in its place.

PART 32—CONTRACT FINANCING

3. Amend section 32.006-1 by revising the first sentence of paragraph (a); and by removing from paragraph (b) “10 U.S.C. 2307(h)(2)” and adding “10 U.S.C. 2307(i)(2)” in its place. The revised text reads as follows:

32.006-1 General.

(a) Under Title 10 of the United States Code, the statutory authority implemented by this section is available to the Department of Defense and the National Aeronautics and Space Administration; this statutory authority is not available to the United States Coast Guard. * * *

32.006-2 [Amended]

4. Amend section 32.006-2 by removing “10 U.S.C. 2307(h)(10)” and adding “10 U.S.C. 2307(i)(10)” in its place.

PART 52—SOLICITATION PROVISIONS AND CONTRACT CLAUSES

52.212-5 [Amended]

5. Amend section 52.212-5 by—

a. Revising the date of clause to read “(AUG 2007)”;

b. Adding “(AUG 2006)” after the word “Set-Aside” in newly designated paragraph (b)(30); and

c. Adding “(AUG 2006)” after the word “Area” in newly designated paragraph (b)(31).

52.232-16 [Amended]

6. Amend section 52.232-16 by removing from the introductory text of paragraph (c) “acquisitions” and adding “actions” in its place.

52.245-1 [Amended]

7. Amend section 52.245-1 by removing from paragraph (e)(3)(iii) “(e)(3)(i)” and adding “(e)(3)(iii)” in its place.

[FR Doc. 07-3804 Filed 8-16-07; 8:45 am]

BILLING CODE 6820-EP-S